DEPARTMENT OF THE INTERIOR

National Park Service

[NPS-WASO-NAGPRA-NPS0039771; PPWOCRADN0-PCU00RP14.R50000]

Notice of Intended Repatriation: University of California, Berkeley, Berkeley, CA

AGENCY: National Park Service, Interior.

ACTION: Notice.

SUMMARY: In accordance with the Native American Graves Protection and Repatriation Act (NAGPRA), the University of California, Berkeley intends to repatriate certain cultural items that meet the definition of sacred objects and/or objects of cultural patrimony and that have a cultural affiliation with the Indian Tribes or Native Hawaiian organizations in this notice.

DATES: Repatriation of the cultural items in this notice may occur on or after April 28, 2025.

ADDRESSES: Alexandra Lucas, Director of Repatriation/Repatriation Coordinator, Government and Community Relations (Chancellor's Office), University of California, Berkeley, 200 California Hall, Berkeley, CA 94720, telephone (510) 570-0964, email nagpra-ucb@berkeley.edu.

SUPPLEMENTARY INFORMATION: This notice is published as part of the National Park Service's administrative responsibilities under NAGPRA. The determinations in this notice are the sole responsibility of the University of California, Berkeley, and additional information on the determinations in this notice, including the results of consultation, can be found in the summary or related records. The National Park Service is not responsible for the determinations in this notice.

Abstract of Information Available

A total of nine Pomo cultural items have been requested for repatriation. The sacred objects and objects of cultural patrimony are from the following accessions Acc.1377, Acc. 1307, and Acc.1702 in the Phoebe A Hearst Museum of Anthropology at the University of California, Berkeley.

In February 1963, the Lowie Museum of Anthropology purchased one sacred object/object of cultural patrimony. The one sacred object/object of cultural patrimony is a Big-head dance headdress (Acc.1702) from the maker and owner Vivian Fred of Big Valley Rancheria in Lakeport, California. The purchase was marked urgent and purchased via rush check in 1963.

On February 7, 1960, Samuel A. Barrett acquired eastern and southeastern Pomo cultural items for the Lowie Museum of Anthropology (Pheobe A Hearst Museum, Accession Acc.1307). The four objects of cultural patrimony include a tule `blanket' for a cradle basket and cradle basket, a mud hen bird trap, and a basket start. The one sacred object/object of cultural patrimony are components of Bighead dance regalia. The circumstances of these acquisitions by Barrett are unknown.

On December 16, 1960, Samuel A. Barrett collected and gifted three Pomo cultural items via the American Indian Films Project to the Lowie Museum of Anthropology (Phoebe A Hearst Museum) under Accession 1377. The one object of cultural patrimony is a tule boat with grapevine binding made at Clear Lake, Lake County, attributed to Harry/Henry Holmes. The two sacred objects/objects of cultural patrimony include a feathered headdress, and a headdress comprising a red cloth square bordered with green fringes.

Collections and collection spaces at the Phoebe A Hearst Museum of Anthropology were treated with substances for preservation and pest control, some potentially hazardous. No records have been found to date at the Museum to indicate whether or not chemicals or natural substances were used prior to 1960.

Determinations

The University of California, Berkeley has determined that:

• The five objects of cultural patrimony described in this notice have ongoing historical, traditional, or cultural importance central to the Native American group, including any constituent sub-group (such as a band, clan, lineage, ceremonial society, or other subdivision), according to the Native American traditional knowledge of an Indian Tribe or Native Hawaiian organization.

• The four sacred objects/objects of cultural patrimony described in this notice are, according to the Native American traditional knowledge of an Indian Tribe or Native Hawaiian organization, specific ceremonial objects needed by a traditional Native American religious leader for present-day adherents to practice traditional Native American religion, and have ongoing historical, traditional, or cultural importance central to the Native American group, including any constituent sub-group (such as a band, clan, lineage, ceremonial society, or other subdivision).

• There is a reasonable connection between the cultural items described in this notice and the Big Valley Band of Pomo Indians of the Big Valley Rancheria, California.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after April 28, 2025. If competing requests for repatriation are received, the University of California, Berkeley must determine the most appropriate requestor prior to repatriation. Requests for joint repatriation of the cultural items are considered a single request and not competing requests. The University of California, Berkeley is responsible for sending a copy of this notice to the Indian Tribes and Native Hawaiian organizations identified in this notice and to any other consulting parties.

Authority: Native American Graves Protection and Repatriation Act, 25 U.S.C. 3004 and the implementing regulations, 43 CFR 10.9.

Dated: March 17, 2025.
Melanie O'Brien,
Manager, National NAGPRA Program.

[FR Doc. 2025-05224 Filed 3-26-25; 8:45 am]

BILLING CODE 4312-52-P